FEDERAL COMMUNICATIONS COMMISSION

47 CFR Part 73

[GN Docket No. 12-268, MB Docket No. 16-306; Report No. 3072]

Petition for Reconsideration of Action in Rulemaking Proceeding

AGENCY: Federal Communications Commission.

ACTION: Petition for reconsideration.

SUMMARY: A Petition for Reconsideration (Petition) has been filed in the Commission's rulemaking proceeding by Rick Kaplan, on behalf of NATIONAL ASSOCIATION OF BROADCASTERS.

DATES: Oppositions to the Petitions must be filed on or before April 26, 2017. Replies to an opposition must be filed on or before May 8, 2017.

ADDRESSES: Federal Communications Commission, 445 12th Street SW., Washington, DC 20554.

FOR FURTHER INFORMATION CONTACT: Shaun Maher, Video Division, Media Bureau, Federal Communications Commission, email: shaun.maher@fcc.gov, phone: (202) 418-2324.

SUPPLEMENTARY INFORMATION: This is a summary of the Commission's document, Report No. 3072, released March 29, 2017. The full text of the Petition is available for viewing and copying at the FCC Reference Information Center, 445 12th Street SW., Room CY-A257, Washington, DC 20554. It also may be accessed online via the Commission's Electronic Comment Filing System at: https://www.fcc.gov/ecfs/. The Commission will not send a copy of this document pursuant to the Congressional Review Act, 5 U.S.C. 801(a)(1)(A), because this document does not have an impact on any rules of particular applicability.

Subject: Incentive Auction Task Force and Media Bureau Announce Procedures for the Post-Incentive Auction Broadcast Transition, DA 17-106, published at 82 FR 12594, March 6, 2017, in MB Docket No. 16-306 and GN Docket No. 12-268. This document is being published pursuant to 47 CFR 1.429(e). See also 47 CFR 1.4(b)(1) and 1.429(f), (g).

Number of Petitions Filed: 1.

Federal Communications Commission.
Marlene H. Dortch,
Secretary.

[FR Doc. 2017-07235 Filed 4-10-17; 8:45 am]

BILLING CODE 6712-01-P